DEPARTMENT OF HOUSING AND URBAN DEVELOPMENT

[Docket No. FR-4950-FA-06]

Announcement of Funding Awards for the Assisted Living Conversion; Program Fiscal Year 2005

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Assisted Living Conversion Program. This announcement contains the names of the awardees and the amounts of the awards made available by HUD.

FOR FURTHER INFORMATION CONTACT: Mr. Willie Spearmon, Director, Office of Housing Assistance and Grant Administration, 451 Seventh Street, SW, Washington, DC 20410-8000; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Assisted Living Conversion Program is authorized by Section 202(b) of the Housing Act of 1959 (12 U.S.C. 1701q-2). The competition was announced in the SuperNOFA published in the Federal Register on March 21, 2005 (70 FR 14148). Applications were rated and selected for funding on the basis of selection criteria contained in that notice.

The Catalog of Federal Domestic Assistance number for this program is 14.314.

The Assisted Living Conversion Program is designed to provide funds to private nonprofit Owners to convert their projects (that is, projects funded under Section 202, Section 8 project-based (including Rural Housing Services' Section 515), Section 221(d)(3) BMIR, Section 236, and unused and underutilized commercial properties) to assisted living facilities. Grant funds are used to convert the units and related space for the assisted living facility.

A total of $22,055,927.00 was awarded to 12 projects for 218 units nationwide. In accordance with section 102(a)(4)(C) of the Department of Housing and Urban Development Reform Act of 1989 (103 Stat. 1987, 42 U.S.C. 3545), the Department is publishing the grantees and amounts of the awards in Appendix A of this document.

Dated: November 20, 2006.
Brian Montgomery,
Assistant Secretary for Housing—Federal Housing Commissioner.

Appendix A

Fiscal Year 2005 Funding Awards for the Assisted Living Conversion Program
Grantee | Award amount
Volunteers of America, 1600 Duke Street, Alexandria, VA 22314 | $4,825,000.00
Guild House West I, 1221 Fairmont Street, Philadelphia, PA 19123 | 1,930,364.00
New Haven Jewish Community, 18 Tower Lane, New Haven, CT 06519 | 1,586,737.00
New Haven Jewish Community, 18 Tower Lane, New Haven, CT 06519 | 1,586,737.00
New Haven Jewish Community, 18 Tower Lane, New Haven, CT 06519 | 1,586,737.00
Wesley Heights II, 580 Long Hill Avenue, Shelton, CT 06484 | 1,518,974.00
Wesley Heights III, 580 Long Hill Avenue, Shelton, CT 06484 | 1,585,501.00
Hubbardston Elderly Housing, I, 205 School St., PO Box 159, Gardner, MA 01440 | 1,373,409.00
Hubbardston Elderly Housing, II, 205 School St., PO Box 159, Gardner, MA 01440 | 1,226,709.00
The Bernadine Apartments, 10 Floor, 700 E. Brighton Avenue, Syracuse, NY 13205 | 746,485.00
The Bernadine Apartments, 11th Floor, 700 E. Brighton Avenue, Syracuse, NY 13205 | 746,176.00
Prospect Towers, 801 Chestnut Street, Clearwater, FL 33756 | 3,343,098.00

[FR Doc. E6-19913 Filed 11-22-06; 8:45 am]

BILLING CODE 4210-67-P